DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TSA-W) issued during the period of May, 2001.

In order for an affirmative determination to be made and a certification of eligibility to apply for worker adjustment assistance to be issued, each of the group eligibility requirements of Section 222 of the Act must bet met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-38,854; Troy Laminating and Coating, Inc., Invex Chargeurs, Troy, OH

In the following cases, the investigation revealed that the criteria for eligibility have not been met for the reasons specified.

Increased imports did not contribute importantly to worker separations at the firm.

TA-W-38,953; Steag Hamatech, Inc., Saco, ME

TA-W-39.142; Teamstaff, El Paso, TX

TA-W-39,160; Fraser Papers, Inc., West Carrollton Mill, West Carrollton, OH

The workers firm does not produce an article as required for certification under Section 222 of the Trade Act of 1974.

TA-W-38,860; Coil Center Corp., Howell MI

TA-W-38,988; Delta Dental Plan of Minnesota, Eagan, MN

Affirmative Determinations for Worker Adjustment Assistance

The following certifications have been issued; the date following the company name and location of each determination references the impact date for all workers of such determination.

TA-W-38,961; Hamburg Unifirms, Hamburg, AR: March 15, 2000.

TA-W-38,991; VF Imagewear (West), Inc., Formerly Red Kap Industries, Columbus, MS: March 9, 2000.

TA-W-38,767; The Ohio Art Co., Bryan, OH: May 23, 2001.

TA-W-39,212; E.I. DuPont, Nylon Division, Camden, SC: April 23, 2000.

TA-W-38,779; Maxxim Medical, Inc., Columbus, MS: February 5, 2000.

TA-W-38,696; Purolator Products, Elmira, NY: February 2, 2000.

TA-W-38,959; Carlisle Tire and Wheel, Clinton, TN: March 19, 2000.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of May, 2001.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None

The investigation revealed that the criteria for eligibility have not been met for the reasons specified.

None

Affirmative Determinations NAFTA-TAA

NAFTA-TAA-04858; Blue Cast Denim Co., Inc., El Paso, TX: May 8, 2000.

NAFTA-TAA-04782; Tyco Electronics, Harrisonburg, VA: April 20, 2000.

NAFTA-TAA-04731; Meridian Automotive Systems, Lapeer Operations, Lapeer, MI: March 26, 2000.

NAFTA-TAA-04702; Renfro Hoisery, Inc., Riverside Plant, Wepamat Department, Mount Airy, NC: March 28, 2000.

NAFTA-TAA-04669; VF Imagewear (West), Inc., Formerly Red Kap Industries, Columbus, MS: March 9, 2000.

I hereby certify that the aforementioned determinations were issued during the month of May, 2001. Copies of these determinations are available for inspection in Room C-5311, U.S. Department of Labor, 200 Constitution Avenue, NW., Washington, DC 20210 during normal business hours or will be mailed to persons who write to the above address.

Dated: May 25, 2001.
Edward A. Tomchick,
Director, Division of Trade Adjustment Assistance.

[FR Doc. 01-14413 Filed 6-7-01; 8:45 am]

BILLING CODE 4510-30-M